DEPARTMENT OF ENERGY

Federal Energy Regulatory Commission

[Docket No. RP01-182-002]

Texas Eastern Transmission Corporation; Notice of Compliance Filing

January 24, 2001.

Take notice that on January 16, 2001, Texas Eastern Transmission Corporation (Texas Eastern), tendered for filing as part of its FERC Gas Tariff, Sixth Revised Volume No. 1, the following tariff sheets, to be effective on January 7, 2001:

Second Sub First Revised Sheet No. 456A

Sub First Revised Sheet No. 456B

Texas Eastern states that the purpose of this filing is to comply with the directives of the Commission's Letter Order dated January 5, 2001, in Docket Nos. RP01-182-000 and RP01-182-001 (January 5 Order).

Texas Eastern states that on December 7, 2000, revised tariff sheets were filed in this docket in order to make the benefits and opportunities of e-commerce available to Texas Eastern's existing and potential customers. The proposed tariff modifications permit customers to request service agreements electronically and to execute such contracts on-line via the LINKr System, as well as to expedite the net present value contract request and contract execution processes.

Texas Eastern states that the January 5 Order accepted Texas Eastern's December 7 tariff filing, effective January 7, 2001, subject to the condition that Texas Eastern file, within ten days of the January 5 Order, revised tariff sheets to (i) maintain its tariff provision awarding capacity on a pro rata basis and (ii) continue to allow a shipper to withdraw a request for service prior to the close of the open season.

Texas Eastern states that copies of its filing have been mailed to all affected customers and interested state commissions.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-2551 Filed 1-29-01; 8:45 am]

BILLING CODE 6717-01-M